DEPARTMENT OF THE INTERIOR

Bureau of Indian Affairs

Indian Gaming

AGENCY: Bureau of Indian Affairs, Interior.

ACTION: Notice of an amendment to a tribal-State gaming compact taking effect between the Little Traverse Bay Bands of Odawa Indians and the State of Michigan.

SUMMARY: Under section 11 of the Indian Gaming Regulatory Act of 1988 (IGRA), Public Law 100-497, 25 U.S.C 2710, the Secretary of the Interior shall publish, in the Federal Register, notice of the approved tribal-State compacts for the purpose of engaging in Class III gaming activities on Indian lands. The Assistant Secretary—Indian Affairs, Department of the Interior, through her delegated authority, has deemed approved the amendment to the Class III gaming compact between the Little Traverse Bay Bands of Odawa Indians and the State of Michigan. By the terms of IGRA, the amendment is considered approved, but only to the extent that the amendment is consistent with the provisions of IGRA. The amendment authorizes the addition of a second gaming site in addition to the current site in Petoskey, Michigan. It also creates a 10 county geographical exclusivity area. In exchange for the geographical exclusivity, the tribe agrees to pay between 10 and 12 percent of net win from class III electronic games at the tribe's second site, depending on the amount of actual revenues. The payment to the State ceases if the scope of non-Indian gaming is expanded within the State or if a federally recognized tribe opens a class III gaming facility within the 10 county areas. In addition the payment is reduced if a newly recognized tribe opens a class III facility within the 10 county areas.

EFFECTIVE DATE: December 10, 2003.

FOR FURTHER INFORMATION CONTACT: George T. Skibine, Director, Office of Indian Gaming Management, Bureau of Indian Affairs, Washington, DC 20240, (202) 219-4066.

Dated: December 2, 2003.
Aurene M. Martin,
Principal Deputy Assistant Secretary—Indian Affairs.

[FR Doc. 03-30634 Filed 12-9-03; 8:45 am]

BILLING CODE 4310-4N-P